DEPARTMENT OF ENERGY

Federal Energy Regulatory Commission

18 CFR Part 35

[Docket No. RM12-3-000]

Revisions to Electric Quarterly Report Filing Process; Availability of Draft XML Schema

AGENCY: Federal Energy Regulatory Commission.

ACTION: Notice of Proposed Rulemaking.

SUMMARY: The Federal Energy Regulatory Commission is making available on its Web site (http://www.ferc.gov) a draft of the XML schema that is being developed for use in filing Electric Quarterly Reports as proposed in the Commission's June 21, 2012 Notice of Proposed Rulemaking, 77 FR 39447 (July 3, 2012). Please refer to the Supplementary Information Section below for details.

DATES: The draft XML Schema is now available at the links mentioned below.

FOR FURTHER INFORMATION CONTACT: Christina Switzer, Office of the General Counsel, Federal Energy Regulatory Commission, 888 First St. NE., Washington, DC 20426, (202) 502-6379.

SUPPLEMENTARY INFORMATION: Take notice that the Federal Energy Regulatory Commission is making available on its Web site (http://www.ferc.gov) a draft of the XML schema that is being developed for use in filing Electric Quarterly Reports as proposed in the Commission's June 21, 2012 Notice of Proposed Rulemaking. The XML schema is still in development, but is being made available as a draft so that interested parties may view the XML schema prior to submitting comments on the proposed rule. The link to the XML schema can be found at both the Events Calendar Web page at, http://www.ferc.gov/EventCalendar/EventDetails.aspx?ID=6411&CalType=&CalendarID=116&Date=&View=Listview, and on the main EQR Web page at, http://www.ferc.gov/docs-filing/eqr.asp.

Dated: July 27, 2012.
Kimberly D. Bose,
Secretary.

[FR Doc. 2012-19106 Filed 8-6-12; 8:45 am]

BILLING CODE 6717-01-P